DEPARTMENT OF TRANSPORTATION

Federal Aviation Administration

First Meeting, RTCA Special Committee 216: Aeronautical System Security

AGENCY: Federal Aviation Administration (FAA), DOT.

ACTION: Notice of RTCA Special Committee 216 meeting Aeronautical Systems Security.

SUMMARY: The FAA is issuing this notice to advise the public of a meeting of RTCA Special Committee 216: Aeronautical Systems Security.

DATES: The meeting will be held on October 10-11, 2007, from 8 a.m. to 5 p.m.

ADDRESSES: The meeting will be held at RTCA, Inc., 1828 L Street, NW., Suite 805, Washington, DC, 20036-5133.

FOR FURTHER INFORMATION CONTACT: RTCA Secretariat, 1828 L Street, NW., Suite 805, Washington, DC, 2036-5133; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a Special Committee 2216 meeting. The agenda will include:

• October 10-11:

• Opening Session (Welcome, Introductory and Administrative Remarks, Agenda Overview).

• RTCA Functional Overview.

• Industry Activities Related to Security-Review.

• Committee Scope—Terms of Reference.

• Presentation, Discussion, Recommendations.

• European Security Initiatives-Overview.

• Organization of Work, Assign Tasks and Workgroups.

• Presentation, Discussion, Recommendations.

• Assignment of Responsibilities.

• Consider/Review Liaison with Other Active Committees.

• Closing Session (Other Business, Assignment/Review of Future Work, Establish Agenda, Date and Place of Next Meeting, Closing Remarks, Adjourn).

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on August 21, 2007.
Francisco Estrada C.,
RTCA Advisory Committee.

[FR Doc. 07-4249 Filed 8-29-07; 8:45 am]

BILLING CODE 4910-13-M